FEDERAL COMMUNICATIONS COMMISSION

[GN Docket Nos. 18-122, 20-173; DA 20-642; FRS 16888]

Wireless Telecommunications Bureau Establishes a New Docket and Describes the Process for Comment on Space Station Operator Transition Plans

AGENCY: Federal Communications Commission.

ACTION: Notice; solicitation of comments.

SUMMARY: In this document, the Wireless Telecommunications Bureau (WTB) establishes GN Docket No. 20-173, which is captioned “Eligible Satellite Operator Transition Plans for the 3.7-4.2 GHz Band.” This document also details the process for notice and comment on space station operators' Transition Plans. Stakeholder comments are on July 13, 2020. Filers responding to the Transition Plans should submit comments in GN Docket No. 20-173.

DATES: Comments are due on or before July 13, 2020.

ADDRESSES: You may submit comments, identified by GN Docket No. 20-173, by any of the following methods:

• Electronic Filers: Elections may be filed electronically using the internet by accessing the ECFS: http://apps.fcc.gov/ecfs/ in docket number GN 20-173.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 445 12th Street SW, Washington DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy

• During the time the Commission's building is closed to the general public and until further notice, if more than one docket or rulemaking number appears in the caption of a proceeding, paper filers need not submit two additional copies for each additional docket or rulemaking number; an original and one copy are sufficient.

FOR FURTHER INFORMATION CONTACT: Susan Mort, Wireless Telecommunications Bureau, at Susan.Mort@fcc.gov or 202-418-2429.

SUPPLEMENTARY INFORMATION: This is a summary of the Commission's document, (Public Notice), GN Docket No. 20-173, DA 20-642, released on June 18, 2020. The complete text of this document, is available on the Commission's website at https://www.fcc.gov/document/wtb-sets-new-docket-and-comment-process-c-band-transition-plans or by using the search function for GN Docket No. 18-122 or GN Docket No. 20-173 on the Commission's ECFS web page at www.fcc.gov/ecfs.

Pursuant to §§ 1.415 and 1.419 of the Commission's rules, 47 CFR 1.415, 1.419, interested parties may file elections on or before the date indicated on the first page of this document.

People with Disabilities: To request materials in accessible formats for people with disabilities (braille, large print, electronic files, audio format), send an email to fcc504@fcc.gov or call the Consumer & Governmental Affairs Bureau at 202-418-0530 (voice), 202-418-0432 (tty).

Ex Parte Rules: This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must: (1) List all persons attending or otherwise participating in the meeting at which the ex parte presentation was made; and (2) summarize all data presented and arguments made during the presentation. If the presentation consisted in whole or in part of the presentation of data or arguments already reflected in the presenters written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the rules or for which the Commission has made available a method of electronic filing, written ex parte presentations and memoranda summarizing oral ex parte presentations, and all attachments thereto, must be filed through the electronic comment filing system available for that proceeding, and must be filed in their native format (e.g., .doc, .xml., .ppt, searchable .pdf). Participants in this proceeding should familiarize themselves with the Commission's ex parte rules.

Synopsis

With this Public Notice, the Wireless Telecommunications Bureau (WTB) establishes GN Docket No. 20-173, which is captioned “Eligible Satellite Operator Transition Plans for the 3.7-4.2 GHz Band.” This Public Notice also details the process for notice and comment on space station operators' Transition Plans. On March 3, 2020, the Commission released the Expanding Flexible Use of the 3.7 to 4.2 GHz Band Report and Order (85 FR 22804 (April 23, 2020)), which adopted new rules to make 280 megahertz of mid-band spectrum available for flexible use through a Commission-administered public auction of overlay licenses, plus a 20 megahertz guard band, throughout the contiguous United States by transitioning existing services out of the lower portion and into the upper 200 megahertz of the 3.7-4.2 GHz band (C-band).

The 3.7 GHz Report and Order required that each eligible space station operator submit to the Commission, and make available for public review in GN Docket No. 18-122, a Transition Plan describing the necessary steps and estimated costs to transition all existing services out of the lower 300 megahertz of the C-band. The 3.7 GHz Report and Order directed WTB to issue a Public Notice detailing the process for incumbent earth station operators, programmers, and other C-band stakeholders to file comments on each Transition Plan. Stakeholder comments on the Transition Plans are due on July 13, 2020. Filers responding to the Transition Plans should submit comments in GN Docket No. 20-173.

Federal Communications Commission.
Amy Brett,
Senior Attorney Advisor, Competition and Infrastructure Policy Division, Wireless Telecommunications Bureau.

[FR Doc. 2020-14091 Filed 6-30-20; 8:45 am]

BILLING CODE 6712-01-P